DEPARTMENT OF THE INTERIOR

Office of the Secretary

[156D0102DM/DS64600000/DLSN00000.000000/DX.64601]

Notice of Senior Executive Service Performance Review Board Appointments

AGENCY: Office of the Secretary, Interior.

ACTION: Notice.

SUMMARY: This notice provides the names of individuals who have been appointed to serve as members of the Department of the Interior Senior Executive Service (SES) Performance Review Board.

DATES: These appointments are effective upon publication in the Federal Register.

FOR FURTHER INFORMATION CONTACT: Thomas Mulhern, Director, Office of Human Resources, Office of the Secretary, Department of the Interior, 1849 C Street NW., Washington, DC 20240, Telephone Number: (202) 208-6761.

SUPPLEMENTARY INFORMATION: The members of the Department of the Interior SES Performance Review Board are as follows:

Name

ALTEMUS, MICHELE J.

ANDERSON, ALLYSON K.

ANDREW, JONATHAN M.

APPLEGATE, JAMES D. R.

ARROYO, BRYAN

ATKINSON, KAREN J

AUSTIN, STANLEY J.

AWNI, MUHAMMAD H.

BALES, JERAD D.

BARCHENGER, ERVIN J

BATHRICK, MARK L.

BAYANI, THERESA WALSH

BEALL, JAMES W

BEAN, MICHAEL J.

BEARPAW, GEORGE WATIE

BEAUDREAU, TOMMY P.

BECK, RICHARD T.

BELIN, ALLETTA D.

BERRIGAN, MICHAEL J.

BIRDSONG, BRET CREECH

BLACK, MICHAEL S.

BLAIR, JOHN WATSON

BLANCHARD, MARY JOSIE

BLEDSOE DOWNES, ANN MARIE

BOLING, EDWARD A.

BOLTON, HANNIBAL

BOWKER, BRYAN L.

BROUN, LAURENCE I.

BROWN, LAURA B.

BROWN, WILLIAM Y

BUFFA, NICOLE NMN

BURCH, MELVIN E.

BURCKMAN, JAMES N.

BURDEN, JOHN W.

BURNS, SYLVIA W.

CALDWELL, MICHAEL A.

CARAMANIAN, LORI L.

CARL, LEON M.

CARTER-PFISTERER, CAROLE

CLARK, HORACE G.

CLEMENT, JOEL P.

COLANDER, BRANDI ADELE

COMPTON, JEFFREY S.

CONNELL, JAMIE E.

CORDOVA-HARRISON, ELIZABE

CRAFF, ROBERT C.

CRIBLEY, BUD C

CRUICKSHANK, WALTER D.

CRUZAN, DARREN A.

DARNELL, JOSEPH D.

DAVIS, MARK H

DEAN, FRANCIS J.

DEERINWATER, DANIEL J.

DICKINSON, WILLIAM K.

DOHNER, CYNTHIA

DOUGLAS, JAMES C.

DREHER, ROBERT GEOFFREY

DUTSCHKE, AMY L.

EDSALL, DONNA LYNN

ELLIS, STEVEN A

ESQUIVEL, FRANCIS O.

ESTENOZ, SHANNON A.

ETHRIDGE, MAX M.

FAETH, LORRAINE V.

FARBER, MICHAEL D

FERRITER, OLIVIA B.

FLANAGAN, DENISE A.

FORD, JEROME E.

FORREST, VICKI L.

FRAZER, GARY D.

FREEMAN, SHAREE M.

FREIHAGE, JASON E.

FROST, HERBERT C.

FULP, TERRANCE J

GALLAGHER, KEVIN T

GIDNER, JEROLD L.

GIMBEL, JENNIFER L

GLENN, DOUGLAS A

GLOMB, STEPHEN J.

GOKLANY, INDUR M.

GOLDFUSS, CHRISTINA WHITE

GONZALES-SCHREINER, ROSEA

GOODWIN, JANET A.

GOULD, GREGORY J.

GOULD, ROWAN W.

GRAZIANO, ANGELA V.

GREENBERGER, SARAH D.

GROSS, LAWRENCE NMN JR.

GUERTIN, STEPHEN D.

HAINES, DAVID ELSWORTH

HAMLEY, JEFFREY L.

HANNA, JEANETTE D.

HARRIS, SARAH E

HART, PAULA L.

HARTLEY, DEBORAH J.

HASKETT, GEOFFREY L.

HAUGRUD, KEVIN JACK

HAWBECKER, KAREN S.

HERBST, LARS T.

HILDEBRANDT, BETSY J.

HOSKINS, DAVID WILLIAM

HUMBERT, HARRY L

IMPSON, ROBERT K.

ISEMAN, THOMAS M

IUDICELLO, FAY S.

JAMES, JAMES D. JR.

JOHNSTON, MICHAEL J.

JUEN, JESSE J.

KEABLE, EDWARD T.

KELLY, FRANCIS P.

KELLY, KATHERINE P

KENDALL, JAMES J. JR.

KENNA, JAMES G

KIMBALL, SUZETTE M.

KINSINGER, ANNE E.

KLEIN, ELIZABETH A.

KNOX, VICTOR W.

KURTH, JAMES W.

LAIRD, JOSHUA RADBILL

LANCE, LINDA L

LAPOINTE, TIMOTHY L.

LAROCHE, DARRELL WILLIAM

LAURO, SALVATORE R.

LEE, LORRI J

LEHNERTZ, CHRISTINE S.

LOFTIN, MELINDA J.

LOHOEFENER, RENNE R.

LOPEZ, ESTEVAN R

LORDS, DOUGLAS A.

LOUDERMILK, WELDON B.

LUEBKE, THOMAS A

LUEDERS, AMY L.

LYONS, JAMES R

MABRY, SCOTT L.

MASICA, SUE E.

MCCAFFERY, JAMES G.

MCDOWALL, LENA E

MCKEOWN, MATTHEW J.

MEHLHOFF, JOHN J.

MELIUS, THOMAS O

MENTORE-SMITH, HOPE Y.

MILAKOFSKY, BENJAMIN E

MONACO, JENNIFER ROMERO

MORRIS, DOUGLAS W.

MOSS, ADRIANNE L.

MULHERN, THOMAS A.

MULLER, BRUCE C JR

MURILLO, DAVID G.

MURPHY, TIMOTHY M.

MUSSENDEN, PAUL A.

NEDD, MICHAEL D.

NEIMEYER, SARAH C

NEUBACHER, DONALD L.

O'DELL, MARGARET G.

ONEILL, KEITH JAMES

ORR, L. RENEE

ORTIZ, HANKIE P.

OWENS, GLENDA HUDSON

PALMA, JUAN M

PAYNE, GRAYFORD F.

PEREZ, JEROME E

PETERSON, PENNY LYNN

PIMLEY, LOWELL D.

PINTO, SHARON ANN

PLETCHER, MARY F.

PRINCE, VENUS MCGHEE

PULA, NIKOLAO IULI

QUINLAN, MARTIN J.

QUINT, ROBERT J

RAUCH, PAUL A.

REYNOLDS, MICHAEL T.

REYNOLDS, THOMAS G.

RIDEOUT, STERLING J. JR

ROBERSON, EDWIN L

ROBERTS, LAWRENCE SCOTT

RODI, JOHN L.

ROESSEL, CHARLES M.

ROSEN, DIANE K.

ROSS, JOHN W

ROTH, BARRY N.

ROUNTREE, CARL D.

RUGEN, CATHERINE E.

RUHS, JOHN F

RUSS, DAVID P.

RYAN, MICHAEL J.

SALERNO, BRIAN M

SALOTTI, CHRISTOPHER P.

SARRI, KRISTEN JOAN

SCHNEIDER, MARGARET N.

SCHOCK, JAMES H.

SHEEHAN, DENISE E.

SHOLLY, CAMERON H

SHOPE, THOMAS D.

SIMMONS, SHAYLA F.

SIMPSON, DONALD A

SINGER, MICHELE F.

SLACK, JAMES J.

SMILEY, KARLA J.

SMITH, MICHAEL R.

SOGGE, MARK K.

SONDERMAN, DEBRA E.

SOUZA, PAUL

SPEAKS, STANLEY M.

STEVENS, BARTHOLOMEW S.

STEWARD, JAMES D.

SUAZO, RAYMOND

TABER, TERESA RENEE

TAYLOR, WILLIE R.

TEITZ, ALEXANDRA ELIZABET

THOMPSON, THOMAS D

THORNHILL, ALAN D.

THORSEN, KIMBERLEY A.

THORSON, ROBYN

TOOTHMAN, STEPHANIE S.

TSCHUDY, DEBORAH GIBBS

TUGGLE, BENJAMIN N.

UBERUAGA, DAVID V.

VELA, RAYMOND DAVID

VELASCO, JANINE M.

VOGEL, ROBERT A.

WAINMAN, BARBARA W.

WALKER, WILLIAM T.

WALSH, NOREEN E.

WARD, JOSEPH M JR

WASHBURN, ELIZABETH R

WASHBURN, JULIA L.

WAYSON, THOMAS C.

WEAVER, JESS D.

WEBER, WENDI

WELCH, RUTH L.

WENK, DANIEL N.

WERKHEISER, WILLIAM H.

WHITE, JOHN ETHAN

WHITTINGTON, SAMUEL Q.

WILLIAMS, LC

WILLIAMS, MARGARET C.

WOLF, ROBERT W

WOODY, WILLIAM C.

WORONKA, THEODORE

YU, DONALD YOON

Thomas Mulhern,
Director, Office of Human Resources.

[FR Doc. 2014-28568 Filed 12-4-14; 8:45 am]

BILLING CODE 4334-12-P